ENVIRONMENTAL PROTECTION AGENCY

[FRL-6954-5]

Effluent Guidelines Plan; Announcement of Meeting

AGENCY: Environmental Protection Agency (EPA).

ACTION: Announcement of meeting.

SUMMARY: Under section 304(m) of the Clean Water Act (CWA), EPA is required to publish a plan every two years which, in part, identifies industry categories for new or revised effluent guidelines. EPA is convening a group of stakeholders and technical experts to participate in a two-day workshop in Baltimore, MD. The purpose of this workshop is to evaluate processes that may be effective in providing a meaningful, transparent assessment of whether revision of existing effluent guidelines is appropriate or whether there is a new category of sources that should be regulated by new effluent guidelines. This meeting is a working session of invited participants selected to represent a broad range of viewpoints and expertise. The meeting is open to the public. The public may make oral statements on April 3, 2001 from 3:45-4:45 PM.

DATES: EPA is conducting the two-day workshop on April 2, 2001 from 8:30 AM-5:30 PM and April 3, 2001 from 8:15 AM to 5:30 PM.

ADDRESSES: The workshop will be held at The Admiral Fell Inn located at 888 South Broadway, Market Square at Thames Street, Baltimore, MD 21231, (800-292-4667).

FOR FURTHER INFORMATION CONTACT: Ms. Jan Matuszko at (202) 260-9126 or Ms. Yu-Ting Liu at (202) 260-3596 or by E-mail: matuszko.jan@epa.gov or liu.yu-ting@epa.gov.

SUPPLEMENTARY INFORMATION: Additional information on effluent guidelines and the current effluent guidelines plan is available on the Internet at http://www.epa.gov/ost/guide.

Dated: March 9, 2001.
Geoffrey H. Grubbs,
Director, Office of Science and Technology.

[FR Doc. 01-7026 Filed 3-20-01; 8:45 am]

BILLING CODE 6560-50-P